FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 15, 2004.

A. Federal Reserve Bank of Boston (Richard Walker, Community Affairs Officer) 600 Atlantic Avenue, Boston, Massachusetts 02106-2204:

1. George Arthur Giovanis, Biddeford, Maine; to retain voting shares of Pepperell Bancshares Financial Group, Inc., Biddeford, Maine, and thereby indirectly retain voting shares of Pepperell Bank and Trust, Biddeford, Maine.

B. Federal Reserve Bank of Kansas City (Donna J. Ward, Assistant Vice President) 925 Grand Avenue, Kansas City, Missouri 64198-0001:

1. Billy Grant Taylor and Raymond Davis King, Jr., both of Muskogee, Oklahoma, as co-trustees of the Richard Glen Armstrong, Margaret R. Armstrong, and Glen A. Armstrong Trusts; to acquire additional voting shares of Armstrong Bancshares, Inc., Muskogee, Oklahoma, and thereby indirectly acquire additional voting shares of Armstrong Bank, Muskogee, Oklahoma.

Board of Governors of the Federal Reserve System, October 26, 2004.
Robert deV. Frierson,
Deputy Secretary of the Board.

[FR Doc. 04-24297 Filed 10-29-04; 8:45 am]

BILLING CODE 6210-01-S